SMALL BUSINESS ADMINISTRATION

[Disaster Declaration #10855 and #10856]

New Jersey Disaster Number NJ-00006

AGENCY: U.S. Small Business Administration.

ACTION: Amendment 1.

SUMMARY: This is an amendment of the Presidential declaration of a major disaster for the State of New Jersey (FEMA-1694-DR), dated 04/26/2007.

Incident: Severe Storms and Inland and Coastal Flooding.

Incident Period: 04/14/2007 through 04/20/2007.

EFFECTIVE DATE: 04/27/2007.

Physical Loan Application Deadline Date: 06/25/2007.

EIDL Loan Application Deadline Date: 01/28/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of NEW JERSEY, dated 04/26/2007 is hereby amended to include the following areas as adversely affected by the disaster:

Primary Counties:

Middlesex, Morris, Hudson.

Contiguous Counties: New Jersey:

Warren.

All other information in the original declaration remains unchanged.

(Catalog of Federal Domestic Assistance Numbers 59002 and 59008)

Herbert L. Mitchell,
Associate Administrator for Disaster Assistance.

[FR Doc. E7-8602 Filed 5-4-07; 8:45 am]

BILLING CODE 8025-01-P